DEPARTMENT OF DEFENSE

Department of the Navy

Notice of Intent To Prepare an Environmental Impact Statement for the Proposed Acquisition of Lands and Establishment of Airspace Contiguous to the Marine Corps Air Ground Combat Center, Twentynine Palms, CA

AGENCY: Department of the Navy, DoD.

ACTION: Notice.

SUMMARY: Pursuant to section (102)(2)(c) of the National Environmental Policy Act of 1969 (42 U.S.C. 4332(2)(c)), as implemented by the Council on Environmental Quality Regulations (40 CFR parts 1500-1508), the Department of the Navy announces its intent to prepare an Environmental Impact Statement (EIS) to study alternatives for meeting Marine Corps Marine Expeditionary Brigade (MEB) sustained, combined arms, live-fire and maneuver training requirements. The proposed action is to request the withdrawal of federal public lands, acquire state and privately owned lands, and to seek the establishment of Special Use Airspace with the effect of expanding the Marine Corps Air Ground Combat Center (MCAGCC), Twentynine Palms, California. The Department of the Navy will prepare the EIS in cooperation with the Bureau of Land Management and Federal Aviation Administration.

DATES: All written, oral, or telephonic comments regarding the scope of issues that the Department of the Navy should consider during EIS preparation must be received before January 31, 2009. Three public scoping meetings have been scheduled and the meeting locations are as follows:

1. December 3, 2009, 5 p.m. to 9 p.m., Twentynine Palms, CA;

2. December 4, 2009, 5 p.m. to 9 p.m., Victorville, CA;

3. December 5, 2009, 5 p.m. to 9 p.m., Ontario, CA.

ADDRESSES: Written comments or requests for inclusion on the EIS mailing list may be submitted to Project Manager (Attn: Mr. Joseph Ross), Box 788104, Bldg 1554, Rm 138, MAGTFTC/MCAGCC, Twentynine Palms, CA 92278-8104. Public meeting locations are as follows:

1. Twentynine Palms Junior High School, Hay's Gym, 5798 Utah Trail, Twentynine Palms, CA;

2. Hilton Garden Inn Victorville, 12603 Mariposa Road, Victorville, CA;

3. Convention Center, 2000 E. Convention Center Way, Ontario, CA.

FOR FURTHER INFORMATION CONTACT: Project Manager (Attn: Mr. Joseph Ross), Box 788104, Bldg 1554, Rm 138, MAGTFTC/MCAGCC, Twentynine Palms, CA 92278-8104; phone: 760-830-3764; e-mail: SMBPLMSWEBPAO@usmc.mil.

SUPPLEMENTARY INFORMATION: Each of the three scoping meetings will consist of an informal, open house session with information stations staffed by Marine Corps representatives. Public comment forms will be available and gathered at the information stations, and a stenographer will be available to take oral comments for inclusion in the record. Details of the meeting locations will be announced in local newspapers. Additional information concerning meeting times and the proposed alternatives will be available on the EIS Web site located at http://www.29palms.usmc.mil/las.

The meetings are designed to solicit input from agencies and the affected public regarding issues or interests that should be studied or the reasonable alternatives that should be considered for study to meet Marine Corps Marine Expeditionary Brigade (MEB) sustained, combined arms, live-fire and maneuver training requirements. The public is welcome to comment orally or by written comment forms at the meeting; or, by sending a letter to Mr. Joe Ross, Project Manager, 29Palms Proposed Training Land/Airspace Acquisition Project, MAGTFTC/MCAGCC, Bldg 1554, Box 788104, Twentynine Palms, CA 92278-8104; by an e-mail to SMBPLMSWEBPAO@usmc.mil; or by voice mail at 760-830-3764.

The EIS will consider alternatives for the proposed acquisition of training land and accompanying Special Use Airspace sufficient to meet the training requirements for three MEB battalions, as a Ground Combat Element, and a correspondingly sized Air Combat Element to simultaneously maneuver for 48-72 hours, using combined-arms and live fire with their supporting Logistics Combat Element and Command Element. To meet MEB training requirements which utilize weapons systems and platforms currently and foreseeable in the Marine Corps inventory, more contiguous military range land and airspace than is now available for training anywhere in the United States would be required.

The requirement for MEB training reflects a shift in doctrine that emerged in the 1990s that placed the MEB as the premier fighting force that would be deployed to world crises in the foreseeable future. The Marine Corps studied locations nationwide that might meet the training requirements and concluded that the Southwest Region range complex is the best location to meet them. This study further determined that expansion at MCAGCC would be necessary to meet the sustained MEB training requirement for a three battalion Ground Combat Element to maneuver to a single objective. MCAGCC is the Marine Corps' service-level training facility for Marine Air Ground Task Force training, the place through which nearly all Marine Corps units rotate for training before deployment.

The Marine Corps is studying various alternatives to meet MEB training requirements at MCAGCC Twentynine Palms, CA. At this time, it is anticipated that the EIS will evaluate five action alternatives and the No Action Alternative. The EIS will also consider any other reasonable alternatives that are subsequently identified during scoping or the preparation of the document. The Marine Corps will also evaluate opportunities for co-use of the land, as part of the evaluation of alternatives. The following is a summary of the alternatives that are currently proposed to be studied in the Environmental Impact Statement.

Alternative 1 would add approximately 188,000 acres to the West of the base and approximately 22,000 acres to the South of the base, and accompanying Special Use Airspace. During a MEB training exercise, three battalions would begin movement in a westerly direction from different starting positions in the current MCAGCC range complex area and converge on a single objective in the western part of what is called “Johnson Valley,” conducting live-fire from ground- and air-based combat elements throughout the training exercise. During non-MEB training periods, any newly acquired installation lands would be used for live-fire, combined arms training and other military training of smaller units. With regard to any Special Use Airspace, this alternative would establish Restricted Airspace over the Western Area to accommodate live-fire from aviation and surface units. Special Use Airspace over the proposed Southern expansion area would need to be converted from Military Operational Airspace to Restricted Airspace.

Alternative 2 would add approximately 112,000 acres to the West of the base, the same 22,000 acres to the South as in Alternative 1, and accompanying Special Use Airspace. During a MEB training exercise, three battalions would begin movement in a westerly direction from different starting positions in the current MCAGCC range complex area and converge on a single objective in the center of what is called “Johnson Valley,” conducting live-fire from ground- and air-based combat elements throughout the training exercise. During non-MEB training periods, any newly acquired installation lands would be used for live-fire, combined arms training and other military training of smaller units. With regard to Special Use Airspace, this alternative would establish Restricted Airspace over the Western Area to accommodate combined arms live-fire from aircraft in support of the Ground Combat Element and would determine whether the current Special Use Airspace over the proposed Southern expansion area would need to be converted from Military Operational Airspace to Restricted Airspace.

Alternative 3 would add the same 22,000 acres of land in the South as would be added in Alternatives 1 and 2 and would add approximately 228,000 acres to the East of the base. During a MEB training exercise, two battalions would begin movement from starting positions to the east of the MCAGCC current range complex and travel together in a westerly direction before separating for individual movement once aboard the current MCAGCC. The third battalion would begin movement in a westerly direction from a starting position in the southern portion of the current range complex. All three battalions would maneuver toward a single objective in the northwest portion of the current range complex. The two battalions that would start in the proposed new areas to the east would conduct live-fire from ground- and air-based combat elements once aboard the current MCAGCC range complex, and the third battalion would be able to conduct live fire from ground- and air-based combat elements throughout the training exercise. During non-MEB training periods, any newly acquired installation lands to the east would be used for live small arms fire and other military training of smaller units, and any newly acquired installation lands in the south would be used for live-fire, combined arms training and other military training of smaller units. In this alternative, it is possible that no additional Special Use Airspace would need to be established, or that any current Special Use Airspace would need to be modified.

Alternative 4 would add the same 188,000 acres to the west of the current installation and approximately 22,000 acres to the south of the installation as are contained in Alternative 1. During a MEB training exercise, three battalions would begin movement in an easterly direction from different starting positions in what is called “Johnson Valley” and assault different objectives in the eastern portion of the current range complex and in the proposed southern expansion area. Live-fire training in the western expansion area would be limited to non-dud producing ordnance, with dud-producing ordnance only targeted within the current range boundary. Non-MEB training events would be subject to the same restrictions. With respect to Special Use Airspace, this alternative would establish Restricted Airspace over the Western and Southern Areas to accommodate combined arms live-fire from aviation and surface units.

Alternative 5 would add the same 188,000 acres of land to the west of the base as in Alternatives 1 and 4. During a MEB training exercise, three battalions would begin movement in an easterly direction from separate starting positions in “Johnson Valley.” Two battalions would attack separate objectives in the current range complex, and the third battalion would attack the Combined Arms Military Operations in Urban Terrain (CA MOUT) facility in the current range complex. Live-fire training in the western expansion area would be limited to non-dud producing ordnance, with dud-producing ordnance only targeted within the current range boundary. Non-MEB training events would be subject to the same restrictions. With respect to Special Use Airspace, this alternative would establish Restricted Airspace over the Western Area to accommodate combined arms live-fire from aviation and surface units.

The No Action Alternative would seek no additional lands and no additional or changes to Special Use Airspace associated with MCAGCC's current range complex. During a MEB exercise, the three battalions of the ground combat element would commence their operations aboard the current MCAGCC range complex in the eastern and central areas of the base, moving towards a single objective in the northwest corner of the current MCAGCC, undertaking live-fire and combined arms actions throughout, except as restrained by on-base administrative controls.

The Department of the Navy is initiating the scoping process to identify community interests and local issues to be addressed in the EIS. Federal, state and local agencies, Native American Indian Tribes and interested individuals are encouraged to provide oral and/or written comments regarding the scope of the EIS to develop reasonable alternatives and/or to identify specific issues or topics of environmental concern that the commenter believes should be considered.

The EIS will evaluate potential environmental effects associated with action alternatives and the No Action Alternative. Potential issues include, but are not limited to: Land use, recreation, energy development, air quality, airspace/air traffic, biological resources, cultural resources, mining/minerals, socioeconomics and noise.

A mailing list has been assembled to facilitate preparation of the EIS. Those on this list will receive notices and documents related to EIS preparation. This list includes local, state, and federal agencies with jurisdiction or other interests in the alternatives. In addition, the mailing list includes adjacent property owners, affected municipalities, and other interested parties such as conservation and off-highway vehicle organizations. Anyone wishing to be added to the mailing list may request to be added by contacting the EIS project manager at the address provided above.

Dated: October 24, 2008.
T.M. Cruz,
Lieutenant Commander, Judge Advocate Generals Corps, U.S. Navy, Federal Register Liaison Officer.

[FR Doc. E8-25845 Filed 10-29-08; 8:45 am]

BILLING CODE 3810-FF-P